DEPARTMENT OF ENERGY

Federal Energy Regulatory Commission

[Docket No. RP00-15-001]

CNG Transmission Corporation; Notice of Proposed Changes in FERC Gas Tariff

February 1, 2000.

Take notice that on January 24, 2000, CNG Transmission Corporation (CNG) tendered for filing as part of its FERC Gas Tariff, Second Revised Volume No. 1, the following revised tariff sheets, with an effective date of February 1, 2000:

Twenty-Eight Revised Sheet No. 31

Fifty-Fifth Revised Sheet No. 32

Forty-Seventy Revised Sheet No. 33

Twenty-First Revised Sheet No. 34

Twenty-Fourth Revised Sheet No. 35

Third Revised Sheet No. 130

Fifth Revised Sheet No. 346

Fifth Revised Sheet No. 347

Fifth Revised Sheet No. 348

Fifth Revised Sheet No. 349

Seventh Revised Sheet No. 350A

Third Revised Sheet No. 380

CNG states that the purpose of this filing is to implement the Stipulation and Agreement Amending Rate Case Settlement filed October 5, 1999, (Settlement) that was approved by the Settlement Order. To implement the Settlement, CNG is required to make two types of tariff revisions: (1) It must reduce its rates as required by the Settlement for services that are subject to the Transportation Cost Rate Adjustment (TCRA); and (2) it must revise certain tariff language that is affected by the Settlement.

CNG states that copies of its letter of transmittal and enclosures have been served upon CNG's customers and interested state commissions.

Any person desiring to protest this filing should file a protest with the Federal Energy Regulatory Commission, 888 First Street, N.E., Washington, D.C. 20426, in accordance with Section 385.211 of the Commission's Rules and Regulations. All such protests must be filed as provided in Section 154.210 of the Commission's Regulations Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-2652 Filed 2-4-00; 8:45 am]

BILLING CODE 6717-01-M